NATIONAL LABOR RELATIONS BOARD

29 CFR Parts 101, 102, and 103

Unified Agenda of Federal Regulatory and Deregulatory Actions

AGENCY: National Labor Relations Board.

ACTION: Semiannual regulatory agenda.

SUMMARY: The following agenda of the National Labor Relations Board (NLRB) is published in accordance with Executive Order 12866, “Regulatory Planning and Review,” and the Regulatory Flexibility Act (RFA), 5 U.S.C. 601-612, as amended by the Small Business Regulatory Enforcement Fairness Act.

The complete Unified Agenda is available online at www.reginfo.gov. Publication in the Federal Register is mandated only for regulatory flexibility agendas required under the RFA. Because the RFA does not require regulatory flexibility agendas for the regulations proposed and issued by the Board, the Board's agenda appears only on the internet at www.reginfo.gov.

The Board's agenda refers to www.regulations.gov, the Government website at which members of the public can find, review, and comment on Federal rulemakings that are published in the Federal Register and open for comment.

FOR FURTHER INFORMATION CONTACT: For further information concerning the regulatory actions listed in the agenda, contact Farah Z. Qureshi, Deputy Executive Secretary, National Labor Relations Board, 1015 Half Street SE, Washington, DC 20570; telephone 202-273-1949, TTY/TDD 1-800-315-6572; email Farah.Qureshi@nlrb.gov.

Farah Z. Qureshi,
Deputy Executive Secretary.

National Labor Relations Board—Completed Actions
Sequence No. | Title | Regulation Identifier No.
351 | Joint-Employer Rulemaking | 3142-AA13
352 | Blocking Charge, Voluntary Recognition, and 9(a) | 3142-AA16

NATIONAL LABOR RELATIONS BOARD (NLRB)

Completed Actions

351. Joint-Employer Rulemaking

E.O. 13771 Designation: Independent agency.

Legal Authority: 29 U.S.C. 156

Abstract: The National Labor Relations Board will be engaging in rulemaking to establish the standard for determining joint-employer status under the National Labor Relations Act.

Completed:

Reason | Date | FR Cite
Final Rule | 02/26/20 | 85 FR 11184
Final Rule Effective | 04/27/20

Regulatory Flexibility Analysis Required: Yes.

Agency Contact: Roxanne Rothschild, Phone: 202 273-2917, Email: roxanne.rothschild@nlrb.gov.

Farah Qureshi, Phone: 202 273-1949, Email: farah.qureshi@nlrb.gov.

RIN: 3142-AA13

352. Blocking Charge, Voluntary Recognition, and 9(a)

E.O. 13771 Designation: Independent agency.

Legal Authority: 29 U.S.C. 156

Abstract: The National Labor Relations Board (the Board) will be revising the representation election regulations located at 29 CFR part 103, with a specific focus on revisions of the Board's current election bar policies.

Completed:

Reason | Date | FR Cite
Final Rule | 04/01/20 | 85 FR 18366
Final Rule; Delay of Effective Date | 04/10/20 | 85 FR 20156
Final Rule; Delay of Effective Date Effective | 07/31/20 |

Regulatory Flexibility Analysis Required: Yes.

Agency Contact: Farah Qureshi, Phone: 202 273-1949, Email: farah.qureshi@nlrb.gov.

Roxanne Rothschild, Phone: 202 273-2917, Email: roxanne.rothschild@nlrb.gov.

RIN: 3142-AA16

[FR Doc. 2020-16770 Filed 8-25-20; 8:45 am]

BILLING CODE 7545-01-P